ENVIRONMENTAL PROTECTION AGENCY

[FRL09195-8]

Creation of the Fiscal Year (FY) 2011 “Environmental Workforce Development and Job Training Grants Program,” Formerly Referred to as the “Brownfields Job Training Grants Program”

AGENCY: Environmental Protection Agency (EPA).

ACTION: Notice.

SUMMARY: Section 104(k)(5)(A)(iii) of the Comprehensive Environmental Response, Compensation and Liability Act (CERCLA) requires EPA to publish guidance to assist applicants in preparing proposals/applications for grants to provide environmental training to facilitate the management, assessment, and cleanup of sites contaminated by solid and hazardous waste. EPA's Office of Solid Waste and Emergency Response (OSWER) provides funds to empower States, communities, Tribes and nonprofits to prevent, inventory, assess, clean up and reuse sites where real or perceived contamination exists and does so by working through OSWER's Office of Brownfields and Land Revitalization (OBLR); Office of Resource Conservation and Recovery; Office of Superfund Remediation and Technology Innovation; Office of Underground Storage Tanks; Federal Facilities Restoration and Reuse Office; Center for Program Analysis; the Innovations, Partnerships, and Communication Office; and Office of Emergency Management. In 2010, OBLR lead an effort to more closely collaborate on workforce development and job training with other programs within OSWER to develop a job training cooperative agreement opportunity that includes expanded training in other environmental media outside the traditional scope of just brownfields. As a result of this collaboration, the former “Brownfields Job Training Grants Program” was expanded and will now be referred to as the “Environmental Workforce Development and Job Training (EWDJT) Grants Program.” With the creation of the “Environmental Workforce Development and Job Training Grants Program,” EPA is soliciting comments on the new FY2011 Application Guidelines through this Federal Register notice, which includes the institutional framework of the prior Brownfields Job Training Grants Program.

DATES: Publication of this notice will start a ten working day comment period on revisions to the FY2011 Brownfields Grant Guidelines. Comments will be accepted through September 13, 2010. EPA expects to release a Request for Applications (RFA) based on these revised application guidelines in October 2010 with an anticipated deadline for submission of applications in January 2011.

ADDRESSES: The draft application guidelines/RFA can be downloaded at: http://www.epa.gov/brownfields/. If you do not have Internet access and require hard copies of the draft guidelines please contact Joseph Bruss at (202) 566-2772. Please send any comments to Joseph Bruss at bruss.joseph@epa.gov no later than September 13, 2010.

FOR FURTHER INFORMATION CONTACT: EPA's Office of Solid Waste and Emergency Response, Office of Brownfields and Land Revitalization, (202) 566-2777.

SUPPLEMENTARY INFORMATION: Please note that in accordance with 5 U.S.C. 553(a)(2), EPA is not undertaking notice and comment rulemaking and has not established a docket to receive public comments on the guidelines. Rather, the Agency as a matter of policy is soliciting the views of interested parties on proposed changes to the application guidelines in an effort to make the guidelines as responsive as possible to the needs of the public. Please note that these draft guidelines are subject to change. Please also note that for EWDJT grants, EPA must continue to impose the administrative cost prohibition as that requirement is statutory. Additionally, like the Brownfields Job Training Grants, the Agency will, as matter of policy, prohibit grantees from using funds to support life skills training. Rather, EPA encourages grantees to partner with local Workforce Investment Boards to deliver these critical services. Organizations interested in applying for funding must follow the instructions contained in the final application guidelines that EPA will publish on http://www.grants.gov in October 2010, rather than these draft guidelines.

The Catalogue of Federal Domestic Assistance entry for this competitive funding opportunity includes 66.815, 66.813, and 66.808.

Dated: August 26, 2010.
David R. Lloyd,
Director, Office of Brownfields and Land Revitalization, Office of Solid Waste and Emergency Response.

[FR Doc. 2010-21837 Filed 8-31-10; 8:45 am]

BILLING CODE 6560-50-P